DEPARTMENT OF AGRICULTURE

Agricultural Marketing Service

[Docket # AMS-FV-2007-0007; FV-06-309]

United States Standards for Grades of Tomatoes on the Vine

AGENCY: Agricultural Marketing Service, USDA.

ACTION: Notice.

SUMMARY: The Department of Agriculture (USDA), Agricultural Marketing Service (AMS) is establishing voluntary United States Standards for Grades of Tomatoes on the Vine. The standards are intended to provide industry with a common language and uniform basis for trading; thus, promoting orderly and efficient marketing of tomatoes on the vine (TOV).

EFFECTIVE DATE: January 17, 2008.

FOR FURTHER INFORMATION CONTACT: Vincent J. Fusaro, Standardization Section, Fresh Products Branch, (202) 720-2185. The United States Standards for Grades of Tomatoes on the Vine will be available on the effective date through the Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is establishing United States Standards for Grades of Tomatoes on the Vine using procedures that appear in Part 36, Title 7 of the Code of Federal Regulations (7 CFR part 36).

Background

On May 26, 2006, AMS published a notice in the Federal Register (71 FR 30367), that solicited comments on the proposed voluntary United States Standards for Grades of Tomatoes on the Vine. The proposed standards contained sections pertaining to general information, grades, tolerances, application of tolerances, size classifications, definitions, and a table of metric conversions. The following grades and tolerances for each grade also appeared in the notice: U.S. No. 1 and U.S. No. 2. In addition, “Application of Tolerances” section and “Size classification” section were listed. The standards also defined “Damage,” “Serious damage,” “Tomatoes on the Vine,” along with other specific basic requirements and defects. Additionally, AMS also sought any comments related to the proposed standards that may be necessary to better serve the industry.

In response to the notice, AMS received six comments on the proposed standards. The comments are available by accessing the AMS, Fresh Products Branch Web site at: http://www.ams.usda.gov/fv/fpbdocketlist.htm.

On February 16, 2007, AMS published a subsequent notice in the Federal Register (72 FR 7593-4), that solicited comments on the proposed voluntary United States Standards for Grades of Tomatoes on the Vine based on comments received from the primary notice. A single comment was received on behalf of a trade group representing growers and packers, expressing the need for additional time to comment. The group requested an extension to the comment period to allow review of the proposed voluntary standards and consider comments.

AMS published a reopening and extension of the comment period in the Federal Register (71 FR 34426), on June 22, 2007. The comment period for the extension ended on August 21, 2007. AMS received no additional comments from the industry on the proposed standards.

The adoption of the U.S. grade standards will provide the tomatoes on the vine industry with U.S. grade standards similar to those extensively in use by the fresh produce industry to assist in orderly marketing of other commodities. Accordingly, AMS is adopting the United States Standards for Grades of Tomatoes on the Vine as proposed in the February 16, 2007, Federal Register notice.

The official grade of a lot of tomatoes on the vine covered by these standards will be determined by the procedures set forth in the Regulations Governing Inspection, Certification, and Standards of Fresh Fruits, Vegetables and Other Products (Sec. 51.1 to 51.61).

The United States Standards for Grades of Tomatoes on the Vine will become effective 30 days after publication in the Federal Register.

Authority: 7 U.S.C. 1621-1627.

Dated: December 13, 2007.
Lloyd C. Day,
Administrator, Agricultural Marketing Service.

[FR Doc. E7-24458 Filed 12-17-07; 8:45 am]

BILLING CODE 3410-02-P